SURFACE TRANSPORTATION BOARD

49 CFR Parts 1241 and 1251

[Docket No. EP 787]

Updating Class I Rail Carrier Reporting Requirements; Extension of Comment Period

AGENCY: Surface Transportation Board.

ACTION: Notice of proposed rulemaking; extension of comment period.

SUMMARY: The Board provides notice that comments in this docket will now be due no later than November 24, 2025, and replies in this docket will be due no later than December 8, 2025.

DATES: The comment period for the proposed rule published September 30, 2025, at 90 FR 46779, is extended. Comments should be received by November 24, 2025, and replies will be due by December 8, 2025.

FOR FURTHER INFORMATION CONTACT: Amanda Gorski, (202) 915-8453. If you require accommodation under the Americans with Disabilities Act, please call (202) 245-0245.

SUPPLEMENTARY INFORMATION: In a notice of proposed rulemaking (NPRM) served and published on September 30, 2025 (90 FR 46779), the Board proposed to terminate Class I carriers' supplemental reporting of certain Positive Train Control expenditures and to require Class I carriers to report two service metrics on a weekly basis. Updating Class I Rail Carrier Reporting Requirements, EP 787, slip op. at 1 (STB served Sept. 30, 2025).

In the NPRM, the Board directed comments to be submitted by October 30, 2025, and replies to be submitted by November 13, 2025. During the shutdown of the federal government from October 1, 2025, through November 12, 2025, all deadlines requiring the submission of materials to the Board, including the deadlines in this proceeding, were tolled. See Materials Due To Be Submitted During the Fed. Gov't Shutdown, EP 751, slip op. at 1 (STB served Oct. 1, 2025).

Comments on the NPRM will now be due by November 24, 2025, and replies will be due by December 8, 2025.

Decided: November 14, 2025.
By the Board, Scott M. Zimmerman, Acting Chief Counsel, Office of Chief Counsel.
Brendetta Jones,
Clearance Clerk.

[FR Doc. 2025-20225 Filed 11-17-25; 8:45 am]

BILLING CODE 4915-01-P